DEPARTMENT OF DEFENSE

Office of the Secretary

Defense Science Board

AGENCY: Department of Defense.

ACTION: Notice of Advisory Committee Meeting.

SUMMARY: The Defense Science Board (DSB) Summer Study will meet in closed session August 13-24, 2001, at the Beckman Center, Irvine, CA. At these meetings, the Defense Science Board will discuss interim findings and recommendations resulting from two ongoing Task Force activities: Defense Science & Technology (S&T) and Precision Targeting.

The mission of the Defense Science Board is to advise the Secretary of Defense and the Under Secretary of Defense for Acquisition, Technology & Logistics on scientific and technical matters as they affect the perceived needs of the Department of Defense. At these meetings, the Board will address the issues involved in assuring that the U.S. continues to gain access to and develop technology from which to gain military advantage. They will consider future technologies that should be developed and exploited for military applications, particularly potential technologies that provide the U.S. military an asymmetric advantage in conflict, in deployment, and at home; the appropriate mix of in-house, contractor, university and commercial providers of basic and applied research and of advanced development; how DoD can leverage technology that is under development and produced globally in commercial industry, as well as that which is being discovered and demonstrated in the S&T programs funded by both other U.S. agencies and other nations; the situation of and the contribution of the DoD laboratories in this changing world; and how to maintain excellence in in-house S&T endeavors.

The Board will also examine the full range of the precision weapons targeting in tactical military operations, from target execution, location, and identification through mission execution and damage assessment. Specifically, all planned precision weapons programs and procurements will be examined to determine the degree to which these weapons are compatible with targeting requirements for different target classes; the degree to which existing and planned reconnaissance and surveillance assets are used to effectively develop target sets, real time targeting data and perform battle damage assessment under varied degrees of cover, concealment and deception; our ability to identify and precisely locate targets while minimizing false alarms using automatic target recognition techniques and precision location technologies; and our ability to attack moving targets.

In accordance with Section 10(d) of the Federal Advisory Committee Act, P.L. No. 92-463, as amended (5 U.S.C. App. II), it has been determined that these Defense Science Board meetings, concern matters listed in 5 U.S.C. § 552b(c)(1), and that accordingly these meetings will be closed to the public.

Dated: June 18, 2001.
Patricia L. Toppings,
Alternate OSD Federal Register Liaison Officer, Department of Defense.

[FR Doc. 01-15787 Filed 6-22-01; 8:45 am]

BILLING CODE 5001-08-M